NATIONAL CREDIT UNION ADMINISTRATION

Sunshine Act: Notice of Agency Meeting

TIME AND DATE: 10:00 a.m., Thursday, January 23, 2014.

PLACE: Board Room, 7th Floor, Room 7047, 1775 Duke Street (All visitors must use Diagonal Road Entrance), Alexandria, VA 22314-3428.

STATUS: Open.

MATTERS TO BE CONSIDERED:

1. NCUA's Strategic Plan for 2014 through 2017, and Annual Plan for 2014 and 2015.

2. Federal Credit Union Loan Interest Rate Ceiling.

3. NCUA's Rules and Regulations, Financial Derivative Transactions to Mitigate Interest Rate Risk.

4. NCUA's Rules and Regulations, Prompt Corrective Action and Risk-Based Capital Measures.

RECESS: 11:00 a.m.

TIME AND DATE: 11:15 a.m., Thursday, January 23, 2014.

PLACE: Board Room, 7th Floor, Room 7047, 1775 Duke Street, Alexandria, VA 22314-3428.

STATUS: Closed.

MATTERS TO BE CONSIDERED: 1. Consideration of Supervisory Activities. Closed pursuant to Exemptions (8), (9)(i)(B) and (9)(ii).

2. Personnel and Agency Practices. Closed pursuant to Exemption (2).

3. Consideration of Supervisory Activities. Closed pursuant to Exemption (8).

FOR FURTHER INFORMATION CONTACT: Gerard Poliquin, Secretary of the Board, Telephone: 703-518-6304.

Gerard Poliquin,
Secretary of the Board.

[FR Doc. 2014-01168 Filed 1-16-14; 4:15 pm]

BILLING CODE 7535-01-P